ENVIRONMENTAL PROTECTION AGENCY

[ER-FRL-9025-3]

Environmental Impact Statements; Notice of Availability

Responsible Agency: Office of Federal Activities, General Information (202) 564-7146 or http://www2.epa.gov/nepa.

Weekly receipt of Environmental Impact Statements (EISs), Filed 01/18/2016 Through 01/22/2016, Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160016, Final, FHWA, TX, SH 249 Extension, Contact: Carlos Swonke 512-416-2734, Under MAP-21 Section 1319 FHWA has issued a single FEIS and ROD. Therefore, the 30-day wait/review period under NEPA does not apply to this action.

EIS No. 20160017, Draft, USFS, AK, Shoreline II Oufitter/Guide (formerly Shoreline II, Outfitter and Guide Management Plan), Comment Period Ends:, 03/14/2016, Contact: Carey Case 907-772-3871.

EIS No. 20160018, Draft, NPS, MD, Assateague Island National Seashore General Management Plan, Comment Period Ends: 05/01/2016, Contact: Deborah Darden 410-629-6080.

EIS No. 20160019, Final, USFS, OR, Kahler Dry Forest Restoration, Review Period Ends: 03/14/2016, Contact: John Evans 541-278-3869.

EIS No. 20160020, Draft, USFS, CA, Lassen National Forest Over-Snow Vehicle (OSV) Use Designation, Comment Period Ends: 03/15/2016, Contact: Chris Obrien 530-252-6698.

EIS No. 20160021, Draft, USACE, NY, Mamaroneck and Sheldrake Rivers Flood Risk Management Village of Mamaroneck General Reevaluation, Comment Period Ends: 03/14/2016, Contact: Matthew Voisine 917-790-8718.

Amended Notices

EIS No. 20150312, Draft, FRA, NY, NEC FUTURE Tier 1, Comment Period Ends: 02/16/2016, Contact: Rebecca Reyes-Alicea 212-668-2282, Revision to FR Notice Published 11/13/2015; Extending Comment Period from 01/30/2016 to 02/16/2016.

EIS No. 20150353, Draft, FRA, MD, Baltimore and Potomac Tunnel Project, Comment Period Ends: 02/19/2016, Contact: Michelle W. Fishburne 202-293-0398, Revision to FR Notice Published 12/18/20105; Extending Comment Period from 02/05/2016 to 02/19/2016.

EIS No. 20150358, Draft, USACE, FL, Herbert Hoover Dike Dam Safety Modification, Comment Period Ends: 02/23/2016, Contact: Stacie Auvenshine 904-232-3694, Revision to FR Notice Published 12/24/2015; Correction to Comment Period from 02/08/2016 to 02/23/2016.

EIS No. 20160001, Final, FHWA, CO, I-70 East, Review Period Ends: 03/02/2016, Contact: Chris Horn 720-963-3017, Revision to FR Notice Published 01/15/2016; Extending Comment Period from 02/16/2016 to 03/02/2016.

EIS No. 20160008, Draft, USFS, WY, Withdrawn—Bear Lodge Project, Contact: Jeanette Timm 307-283-1361, Revision to FR Notice Published 01/15/2016; The U.S. Department of Agriculture's Forest Service has Officially Withdrawn this EIS.

Dated: January 26, 2016.
Dawn Roberts,
Management Analyst, NEPA Compliance Division, Office of Federal Activities.

[FR Doc. 2016-01706 Filed 1-28-16; 8:45 am]

BILLING CODE 6560-50-P